DEPARTMENT OF ENERGY

Federal Energy Regulatory Commission

Notice of Commission Closing and Filing Deadlines

On December 18, 2025, the President of the United States signed an Executive Order providing for the closing of Executive Departments and Agencies of the Federal Government on Wednesday, December 24, 2025, and Friday, December 26, 2025. Accordingly, the Federal Energy Regulatory Commission (Commission) will be closed on Wednesday, December 24, 2025, and Friday, December 26, 2025. The Commission already planned to be closed for the Federal holiday on December 25, 2025.

Pursuant to section 385.2007 of the Commission's rules, 18 CFR 385.2007 (2025), all filings and documents due to be filed on Wednesday, December 24, 2025, or Friday, December 26, 2025, will be accepted as timely on the next official business day.

Dated: December 22, 2025.
Debbie-Anne A. Reese,
Secretary.

[FR Doc. 2025-24025 Filed 12-30-25; 8:45 am]

BILLING CODE 6717-01-P